DEPARTMENT OF THE TREASURY

Open Meeting of the President's Advisory Council on Financial Literacy

AGENCY: Office of Financial Education, Treasury.

ACTION: Notice of meeting.

SUMMARY: The President's Advisory Council on Financial Literacy (Council) will convene its first meeting on Wednesday, February 13, 2008, in the Cash Room of the Main Department Building, 1500 Pennsylvania Avenue, NW., Washington, DC, beginning at 10 a.m. Eastern Time. The meeting will be open to the public.

DATES: The meeting will be held on Wednesday, February 13, 2008, at 10 a.m. Eastern Time.

ADDRESSES: The President's Advisory Council on Financial Literacy will convene its first meeting in the Cash Room of the Main Department Building, 1500 Pennsylvania Avenue, NW., Washington, DC. The public is invited to submit written statements to the Council. Send written statements in triplicate to the address identified below in the FOR FURTHER INFORMATION CONTACT section of this notice. All statements, including attachments and other supporting materials, received are part of the public record and subject to public disclosure. You should submit only information that you wish to make available publicly.

FOR FURTHER INFORMATION CONTACT: Edwin Bodensiek, Director of Outreach, Department of the Treasury, Main Department Building, 1500 Pennsylvania Avenue, NW., Washington, DC 20220; ed.bodensiek@do.treas.gov.

SUPPLEMENTARY INFORMATION: By this notice, the Department of the Treasury is announcing that the President's Advisory Council on Financial Literacy will convene its first meeting on Wednesday, February 13, 2008, in the Cash Room in the Main Department Building, 1500 Pennsylvania Avenue, NW., Washington, DC, beginning at 10 a.m. Eastern Time. The meeting will be open to the public. Because the meeting will be held in a secured facility, members of the public who plan to attend the meeting must contact the Office of Financial Education at 202-622-1783 by 5 p.m. Eastern Time on Monday, February 11, 2008, to inform the Department of their desire to attend the meeting and to provide the information that will be required to facilitate entry into the Main Department Building. To enter the building, attendees should provide their full name, date of birth, social security number, organization, and country of citizenship. The purpose of this meeting is to discuss general organizational matters of the President's Advisory Council on Financial Literacy and begin discussing the issues concerning financial literacy.

The Federal Advisory Committee Act (5 U.S.C. App), and implementing regulations, requires notice in the Federal Register 15 days in advance of a committee meeting. An agency may give less than 15 days in exceptional circumstances. This Council was created by Executive Order 13458, which was published in the Federal Register on January 24, 2008. The Council wishes to convene as soon as possible so that it can begin its work to educate the American people about matters pertaining to their finances, including mortgage indebtedness issues. To better meet the needs of the public on these timely matters, the Council is holding its first meeting on February 13, 2008. This notice period is being shortened by a few days for this purpose.

Dated: January 28, 2008.
Dan Iannicola, Jr.,
Deputy Assistant Secretary, Office of Financial Education.

[FR Doc. 08-447 Filed 1-29-08; 9:03 am]

BILLING CODE 4811-42-P